DEPARTMENT OF STATE

[Public Notice 8931]

Department of State Performance Review Board Members; Appointments

In accordance with section 4314(c)(4) of 5 United States Code, the Department of State has appointed the following individuals to the Department of State Performance Review Board for Senior Executive Service members:

Christopher H. Flaggs, Chairperson, Comptroller, Bureau of the Comptroller and Global Financial Services, Department of State;

Kelly Clements, Deputy Assistant Secretary, Bureau of Population, Refugees, and Migration, Department of State;

Hoyt B. Yee, Deputy Assistant Secretary, Bureau of European and Eurasian Affairs, Department of State; and

Mary Catherine Malin, Assistant Legal Advisor, Office of the Legal Advisor, Department of State.

Dated: October 14, 2014.
Hans Klemm,
Acting Director General of the Foreign Service and Director of Human Resources, Department of State.

[FR Doc. 2014-25353 Filed 10-23-14; 8:45 am]

BILLING CODE 4710-15-P